SMALL BUSINESS ADMINISTRATION

[Disaster Declaration #21438 and #21439; Mississippi Disaster Number MS-20019]

Presidential Declaration of a Major Disaster for Public Assistance Only for the State of Mississippi and the Mississippi Band of Choctaw Indians

AGENCY: U.S. Small Business Administration.

ACTION: Notice.

SUMMARY: This is notice of the Presidential declaration of a major disaster for Public Assistance Only for the state of Mississippi and the Mississippi Band of Choctaw Indians (FEMA-4899-DR), dated February 6, 2026.

Incident: Severe Winter Storm.

DATES: Issued on February 6, 2026.

Incident Period: January 23, 2026 through January 27, 2026.

Physical Loan Application Deadline Date: April 7, 2026.

Economic Injury (EIDL) Loan Application Deadline Date: November 6, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: Notice is hereby given as a result of the President's major disaster declaration on February 6, 2026, Private Non-Profit organizations providing essential services of a governmental nature may file disaster loan applications online using the MySBA Loan Portal https://lending.sba.gov or in person at other locally announced locations. For further assistance please contact the SBA disaster assistance customer service center by email at disastercustomerservice@sba.gov or by phone at 1-800-659-2955. If you are deaf, hard of hearing, or have a speech disability, please dial 7-1-1 to access telecommunications relay services.

The following areas have been determined to be adversely affected by the disaster:

Primary Counties: Alcorn, Bolivar, Calhoun, Carroll, Grenada, Holmes, Humphreys, Issaquena, Leflore, Montgomery, Sharkey, Sunflower, Warren, Washington, Webster, Yazoo.

Tribal Regions: Mississippi Band of Choctaw Indians.

The Interest Rates are:

| Percent
For Physical Damage:
Private Non-Profit Organizations with Credit Available Elsewhere | 3.625
Private Non-Profit Organizations without Credit Available Elsewhere | 3.625
For Economic Injury:
Private Non-Profit Organizations without Credit Available Elsewhere | 3.625

The number assigned to this disaster for physical damage is 21438B and for economic injury is 214390.

(Catalog of Federal Domestic Assistance Number 59008)

(Authority:13 CFR 123.3(b).)

James Stallings,
Associate Administrator, Office of Disaster Recovery & Resilience.

[FR Doc. 2026-02925 Filed 2-12-26; 8:45 am]

BILLING CODE 8026-09-P